NATIONAL SCIENCE FOUNDATION

Special Emphasis Panel in Human Resource Development; Notice of Meeting

In accordance with the Federal Advisory Committee Act (Pub. L. 92-463, as amended) the National Science Foundation announces the following meeting:

Name: Special Emphasis Panel in Human Resource Development (1199).

Date and Time: February 1-2, 2001; 8:30 am-5:30 pm.

Place: National Science Foundation, 4201 Wilson Boulevard, Rooms 830, Arlington, VA 22230.

Type of Meeting: Part-Open.

Contact Person: Drs. A. James Hicks, Victor Santiago, Roosevelt Johnson and Joseph Bragin, Division of Human Resource Development, Room 815, National Science Foundation, 4201 Wilson Boulevard, Arlington, VA 22230. Telephone: (703) 306-1632.

Purpose of Meeting: To carryout a Committee of Visitors review of Historically Black Colleges and Universities—UP (HBCU), Louis Stokes Alliances for Minority Participation (LSAMP), Alliance for Graduate Education and the Professoriate (AGEP) and Centers for Research Excellence in Science & engineering (CREST).

Agenda:

Closed: February 1, 2001, 8:30 am-5:30 pm and February 2, 2001, 8:30 am-3:30 pm. To review the merit review process covering funding decisions made during the immediately preceding three fiscal years.

Open: February 2, 2001, 3:30 pm-5:30 pm. Discussions on the impact of projects funded and an evaluation of the programs.

Reason for Closing: During the closed session, the Committee will be reviewing proposal actions that will include privileged intellectual property and personal information that could harm individuals if they were disclosed. Such deliberations are exempt under 5 U.S.C. 552b(c), (4) and (6) of the Government in the Sunshine Act.

Dated: January 8, 2001.
Karen J. York,
Committee Management Officer.

[FR Doc. 01-887 Filed 1-10-01; 8:45 am]

BILLING CODE 7555-01-M